DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Clarke County, Alabama, and Incorporated Areas
Docket No.: FEMA-D-7826
Alabama River | 459 feet upstream of the intersection of Reedy Creek and Cross Section A | +35 | Unincorporated Areas of Clarke County.
| 2,439 feet downstream of intersection of Alabama River and Silver Creek Lake Road | +61
East Basset Creek | The point where East Basset Creek and County Highway 15 intersect | +34 | Unincorporated Areas of Clarke County.
| 10,906 feet upstream of the intersection of East Bassett Creek and County Highway 15 | +45
Tombigbee River | 1,332 feet downstream of the intersection of Tombigbee River and Southern Railway | +35 | Unincorporated Areas of Clarke County.
| 3,783 feet downstream of the intersection of Tombigbee River and U.S. Highway 43 | +36
* National Geodetic Vertical Datum.
+ North American Vertical Datum.
# Depth in feet above ground.
ADDRESSES
Unincorporated Areas of Clarke County
Maps are available for inspection at 114 Court Street, Grove Hill, AL 36451.
Lee County, Kentucky, and Incorporated Areas
Docket No.: FEMA-B-7748
Kentucky River-North Fork Kentucky River | Approximately 150 feet downstream of confluence with Mirey Creek | +668 | Unincorporated Areas of Lee County.
| Approximately 1550 feet downstream of confluence with Blaines Branch | +671
* National Geodetic Vertical Datum.
+ North American Vertical Datum.
= North American Vertical Datum.
# Depth in feet above ground.
ADDRESSES
Unincorporated Areas of Lee County
Maps are available for inspection at Lee County Courthouse, 256 Main Street, Beattyville, KY 41311.
Tunica County, Mississippi, and Incorporated Areas
Docket No.: FEMA-B-7724
Buck Island Bayou | At Fields Road | +189 | Tunica County (Unincorporated Areas).
| At Highway 3 | +189
Jack Lake Bayou | At Jack Lake Crossing | +189 | Tunica County (Unincorporated Areas).
| At Verner Road | +191
Minton Bayou | At confluence with Jack Lake Bayou | +189 | Tunica County (Unincorporated Areas).
| At Fields Road | +190
White Oak Bayou | At Highway 4 | +181 | Tunica County (Unincorporated Areas).
| At Highway 61 | +186 |
White Oak Bayou Tributary | At Academy Road | +190 | Town of Tunica, Tunica County (Unincorporated Areas).
| At Fox Island Road | +192
* National Geodetic Vertical Datum.
+ North American Vertical Datum.
# Depth in feet above ground.
ADDRESSES
Town of Tunica
Maps are available for inspection at Town Hall, 909 River Road, Tybuca, MS 38676.
Tunica County (Unincorporated Areas)
Maps are available for inspection at Office of Planning and Development, 1061 South Court Street, Tunica, MS 38676.
Dyer County, Tennessee, and Incorporated Areas
Docket No.: FEMA-D-7822
Mississippi River | Approximately 720 feet downstream from the confluence of Obion River | +268 | Unincorporated Areas of Dyer County.
| County boundary | +281
* National Geodetic Vertical Datum.
+ North American Vertical Datum.
# Depth in feet above ground.
ADDRESSES
Unincorporated Areas of Dyer County
Maps are available for inspection at Building Inspector's Office, #1 Veterans Square, Dyersburg, TN 38025.

(Catalog of Federal Domestic Assistance No. 97.022, “Flood Insurance.”)

Dated: April 21, 2008.
David I. Maurstad,
Federal Insurance Administrator of the National Flood Insurance Program, Department of Homeland Security, Federal Emergency Management Agency.

[FR Doc. E8-10336 Filed 5-7-08; 8:45 am]

BILLING CODE 9110-12-P